DEPARTMENT OF COMMERCE

Census Bureau

Agency Information Collection Activities; Submission to the Office of Management and Budget (OMB) for Review and Approval; Comment Request; Quarterly Survey of Public Pensions

AGENCY: Census Bureau, Commerce.

ACTION: Notice of information collection, request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for 60 days of public comment on the proposed extension of the Quarterly Survey of Public Pensions prior to the submission of the information collection request (ICR) to OMB for approval.

DATES: To ensure consideration, comments regarding this proposed information collection must be received on or before August 23, 2021.

ADDRESSES: Interested persons are invited to submit written comments by email to Thomas.J.Smith@census.gov. Please reference Quarterly Survey of Public Pensions in the subject line of your comments. You may also submit comments, identified by Docket Number USBC-2021-0014, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Phillip Vidal, Chief, Pensions Statistics Branch, Economy-Wide Statistics Division, U.S. Census Bureau, Headquarters, Washington, DC 20233; email: phillip.m.vidal@census.gov; 301.763.1749.

SUPPLEMENTARY INFORMATION:

I. Abstract

The Census Bureau plans to request clearance for the form necessary to conduct the Quarterly Survey of Public Pensions. The quarterly survey was initiated by the Census Bureau in 1968 at the request of both the Council of Economic Advisers and the Federal Reserve Board.

The Quarterly Survey of Public Pensions currently provides national summary data on the asset holdings of the largest pension systems of state and local governments.

These data are used by the Federal Reserve Board to track the public sector portion of the Flow of Funds Accounts. Economists and public policy analysts use these data to assess general economic conditions and state and local government financial activities.

Data are collected from a panel of defined benefit plans of the 100 largest state and local government pension systems as determined by their total cash and security holdings reported in the 2012 Census of Governments. The defined benefit plans of these 100 largest pension systems comprise 87.2 percent of financial activity among such entities, based on the 2012 Census of Governments.

II. Method of Collection

Survey data are collected through the Census Bureau's web collection system that enables public entities to respond to the questionnaire via the internet. The questionnaire is available online for respondents to print when they choose to mail or fax. Most respondents choose to report their data online. In addition to reporting current quarter data, respondents may provide initial data for the previous seven quarters or submit revisions to their data submitted in the previous seven quarters.

Data are received each quarter from 70 to 80 percent of the systems canvassed. In those instances when we are not able to obtain a response, we conduct follow-up operations using email and phone calls. Imputations are developed for each of the remaining nonresponse systems in the panel from the latest available data.

III. Data

OMB Control Number: 0607-0143.

Form Number(s): F-10.

Type of Review: Regular submission, Request for an Extension, without Change, of a Currently Approved Collection.

Affected Public: State and locally-administered public pension plans.

Estimated Number of Respondents: 100.

Estimated Time per Response: 45 minutes.

Estimated Total Annual Burden Hours: 300.

Estimated Total Annual Cost to Public: $0. (This is not the cost of respondents' time, but the indirect costs respondents may incur for such things as purchases of specialized software or hardware needed to report, or expenditures for accounting or records maintenance services required specifically by the collection.)

Respondent's Obligation: Voluntary.

Legal Authority: Title 13 U.S.C. Section 161 and 182.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-13428 Filed 6-23-21; 8:45 am]

BILLING CODE 3510-07-P